DEPARTMENT OF AGRICULTURE

Submission for OMB Review; Comment Request

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by December 8, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Storage and Use of Explosives and Magazine Security on National Forest System Lands Under a Special Use Authorization.

OMB Control Number: 0596-NEW.

Summary of Collection: Existing directives in the Forest Service Manual and Handbook are being revised to improve security and administration of explosive magazines and explosives use that are authorized under a special use authorization. The revisions clarify that all non-Forest Service storage and use of explosives, including use and storage of military weapons and ammunition for purposes of avalanche mitigation on National Forest System lands, must be authorized by a special use authorization that contains clause B-29 in Forest Service Handbook 2709.11, Chapter 50, section 52.2, on storage and use of explosives and magazine security. Clause B-29 requires authorization holders to comply with applicable United States Department of Justice, Bureau of Alcohol, Tobacco, Firearms and Explosives, state, or Department of the Army requirements and applicable Forest Service requirements.

Need and Use of The Information: To allow the Forest Service to monitor holder compliance with clause B-29, the revised directives require holders of an authorization containing the clause to submit certain documentation annually as part of their operating plan. The required documentation includes copies of a log containing the date and type of magazine inspections (including inspections required every seven days) and the date all deficiencies identified in any magazine inspection report were corrected; copies of any magazine inspection reports; a copy of the holder's current ATF-issued federal explosives license or federal explosives permit, if applicable; and a copy of a log containing the date of the most recent magazine lock and key replacement.

Description of Respondents: Individuals or Households; Holders of a special use authorization authorizing the storage and use of explosives.

Number of Respondents: 60.

Frequency of Responses: Annually.

Total Burden Hours: 10.

Dated: November 2, 2021.
Levi S. Harrell,
Departmental Information Collection Clearance Officer.

[FR Doc. 2021-24289 Filed 11-5-21; 8:45 am]

BILLING CODE 3411-15-P